DEPARTMENT OF HOMELAND SECURITY

National Protection and Programs Directorate; Chemical Security Assessment Tool Revision

AGENCY: National Protection and Programs Directorate, Office of Infrastructure Protection Infrastructure Security Compliance Division, DHS.

ACTION: 30-Day Notice and request for comments: Revision of information collection request 1670-0007.

SUMMARY: The Department of Homeland Security, National Protection and Programs Directorate, Office of Infrastructure Protection, Infrastructure Security Compliance Division (ISCD) will be submitting the following information collection request (ICR) to the Office of Management and Budget (OMB) for review and clearance in accordance with the Paperwork Reduction Act of 1995. The information collection is a revision to information collection 1670-0007. A 60-day public notice for comments was previously published in the Federal Register on July 1, 2009 at 74 FR 31459. No comments were received. The purpose of this notice is to solicit comments during a 30-day public comment period prior to the submission of this collection to OMB. The submission describes the nature of the information collection, the categories of respondents, the estimated burden and cost.

DATES: Comments are encouraged and will be accepted until October 26, 2009. This process is conducted in accordance with 5 CFR 1320.8.

ADDRESSES: Interested persons are invited to submit comments on the proposed information collection through Federal Rulemaking Portal at http://www.regulations.gov. Follow the instructions for submitting comments. Comments must be identified by docket number DHS-2009-0033.

FOR FURTHER INFORMATION CONTACT: A copy of this ICR, with applicable supporting documentation, may be obtained through Federal Rulemaking Portal at http://www.regulations.gov.

SUPPLEMENTARY INFORMATION: Section 550 of Public Law 109-295 provides the Department of Homeland Security with the authority to regulate the security of high-risk chemical facilities. Before the enactment of section 550, the Federal government did not have the authority to regulate the security of most of our nation's chemical facilities. On April 9, 2007, the Department issued an Interim Final Rule (IFR), implementing this statutory mandate at 72 FR 17688. Section 550 requires a risk-based approach to security.

The Chemical Facility Anti-Terrorism Standards (CFATS), 6 CFR part 27, are the Department's regulations under section 550 governing security at high-risk chemical facilities. CFATS represents a national-level effort to minimize terrorism risk to such facilities. Its design and implementation balance maintaining economic vitality with securing facilities and their surrounding communities. The regulations were designed, in collaboration with the private sector and other stakeholders, to take advantage of protective measures already in place and to allow facilities to employ a wide range of tailored measures to satisfy the regulations' Risk-Based Performance Standards (RBPS).

CFATS also establishes, in 6 CFR 27.400, the requirements that covered persons must follow to safeguard certain documents and other information developed under the regulations. This information is identified as “Chemical-terrorism Vulnerability Information” (CVI) and by law receives protection from public disclosure and misuse.

The Department collects the primary core regulatory data electronically through the Chemical Security Assessment Tool (CSAT).

Solicitation of Comments

No comments were received in response to the 60-day public comment period. However, the department has adjusted the cost estimates based on improved cost information.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: Chemical Security Assessment Tool.

OMB Number: 1670-0007.

CFATS Helpdesk

Frequency: On occasion.

Affected Public: Private Sector.

Number of Respondents: 25,000.

Estimated Time Per Respondent: 0.25 hours.

Total Burden Hours: 6,250 hours.

Total Burden Cost (capital/startup): $0.00.

Total Burden Cost (operating/maintaining): $525,000.

Chemical-Terrorism Vulnerability Information Authorization

Frequency: On occasion.

Affected Public: Private Sector.

Number of Respondents: 8,073.

Estimated Time Per Respondent: 1 hour.

Total Burden Hours: 8,073 hours.

Total Burden Cost (capital/startup): $0.00.

Total Burden Cost (operating/maintaining): $678,132.

CSAT User Registration

Frequency: On occasion.

Affected Public: Private Sector.

Number of Respondents: 4,167.

Estimated Time Per Respondent: 1 hour.

Total Burden Hours: 4,167 hours.

Total Burden Cost (capital/startup): $0.00.

Total Burden Cost (operating/maintaining): $350,028.

CSAT Top Screen

Frequency: On occasion.

Affected Public: Private Sector.

Number of Respondents: 4,167.

Estimated Time Per Respondent: 30.3 hours.

Total Burden Hours: 189,390 hours.

Total Burden Cost (capital/startup): $0.00.

Total Burden Cost (operating/maintaining): $15,908,772.

Security Vulnerability Assessment and Alternative Security Program Submitted in Lieu of the Security Vulnerability Assessment

Frequency: On occasion.

Affected Public: Private Sector.

Number of Respondents: 825.

Estimated Time Per Respondent: 250 hours.

Total Burden Hours: 309,375 hours.

Total Burden Cost (capital/startup): $0.00.

Total Burden Cost (operating/maintaining): $25,987,500.

Site Security Plan (SSP) and Alternative Security Program Submitted in Lieu of the Site Security Plan

Frequency: On occasion.

Affected Public: Private Sector.

Number of Respondents: 825.

Estimated Time Per Respondent: 200 hours.

Total Burden Hours: 247,500 hours.

Total Burden Cost (capital/startup): $0.00.

Total Burden Cost (operating/maintaining): $20,790,000.

Thomas Chase Garwood, III,
Chief Information Officer, National Protection and Programs Directorate, Department of Homeland Security.

[FR Doc. E9-23219 Filed 9-24-09; 8:45 am]

BILLING CODE 9110-9P-P